DEPARTMENT OF STATE

[Delegation of Authority 293]

Delegation of Authority by the Secretary of State to Officers of the Department of State and the Administrator of the U.S. Agency for International Development of Authorities Under the Foreign Assistance Act of 1961 and Other Related Acts

By virtue of the authority vested in me as Secretary of State by the laws of the United States, including the Foreign Assistance Act of 1961, as amended, (22 U.S.C. 2151 et seq.) (the Act), Executive Order 12163 of September 29, 1979, as amended (44 FR 56673) (the Order), the Migration and Refugee Assistance Act of 1962 (22 U.S.C 2601), and section 1 of the State Department Basic Authorities Act, as amended (22 U.S.C. 2651a), I hereby delegate the following functions to the extent authorized by law:

Section 1. Functions Delegated to the Director of Foreign Assistance

Exclusive of the functions otherwise reserved to the Secretary of State herein, there are hereby delegated to the Director of Foreign Assistance:

(a) The functions conferred upon the Secretary of State by sections 101(b), 531(b) and 622(c) of the Act, section 2(b) of the Arms Export Control Act, and section 1523 of the Foreign Affairs Reform and Restructuring Act of 1998 (22 U.S.C. 6593), including the authority to provide for continuous supervision and general direction of development and other economic assistance, military assistance, military education and training, and foreign military financing, designing a U.S. foreign assistance strategy and budgetary approach, determining whether there shall be a program for a country and the amount thereof, and approving the programming of foreign assistance.

(b) The functions conferred upon the Secretary by section 1-100 of the Order and section 1 of Executive Order 11077 of January 22, 1963 (28 FR 629) insofar as such functions are necessary to approve assistance and programs under chapters 3 and 8 of Part I of the Act, Part II of the Act (including chapters 4, 6 and 8 thereof), and the Migration and Refugee Assistance Act of 1962 (22 U.S.C 2601) as part of a coordinated U.S. foreign assistance strategy.

Section 2. Functions Delegated to Other Officers of the Department of State

Exclusive of the functions reserved to the Secretary or delegated by section 1, the following functions are delegated to officers of the Department of State as indicated:

(a) To the Under Secretary for Arms Control and International Security:

(1) The functions conferred on the Secretary by Executive Order 11958 of January 18, 1977 (42 FR 4311) relating to sales and exports under the Arms Export Control Act (22 U.S.C. 2751 et seq.).

(2) The functions conferred upon the Secretary of State by statute or by section 2(b) of the Arms Export Control Act relating to continuous supervision and general direction of military sales and exports, including, but not limited to, whether there shall be a military sale or export for a country and the value thereof, to the end that such sales and exports are effectively integrated both at home and abroad and the foreign policy of the United States is best served thereby.

(3) The functions conferred on the Secretary of State by section 374 of Title 10, United States Code and other authorities and responsibilities of the Secretary of State related to the provision of Department of Defense equipment and services for narcotics-related purposes.

(4) The functions conferred upon the Secretary of State by—

(A) Sections 39 and 42(b) of the Arms Export Control Act (22 U.S.C. 2751);

(B) Section 504 of the Foreign Relations Authorization Act, fiscal year 1979 (22 U.S.C. 2656d);

(C) Section 1454(d)(1) of the Department of Defense Authorization Act, Fiscal Year 1986 (Pub. L. 99-145, 10 U.S.C. 2547(d)(1)), and (to the extent not otherwise expressly delegated or reserved) other authorities and responsibilities of the Secretary of State relating to the provision of Department of Defense equipment or services for humanitarian purposes;

(D) Section 1324(a) of Title XII of the Defense Authorization Act, Fiscal Year 1996 (Pub. L. 104-106); and

(E) Section 585 of the Foreign Operations, Export Financing, and Related Programs Appropriations Act, Fiscal Year 1997, as enacted in Public Law 104-208.

(5) The functions conferred on the President by—

(A) Section 8(d) of the act of January 12, 1971 to amend the Foreign Military Sales Act (22 U.S.C. 2321b(d));

(B) Section 607 of the International Security Assistance and Arms Export Control Act of 1976 (22 U.S.C. 2394a); and

(C) Section 1540(b)(1)(A) of the Department of Defense Authorization Act, Fiscal Year 1985 (Pub. L. 98-525), to be exercised in consultation with the Secretary of Defense.

(6) The function of consultation, pursuant to the Order and Executive Order 11958 of January 18, 1977 (42 FR 4311), with the Secretary of Defense, the Director of the Office of Management and Budget, and the Administrator of the United States Agency for International Development (USAID).

(7) To the extent that such functions were delegated to the Secretary of State pursuant to Executive Order 12851 of June 11, 1993 (58 FR 33181), the functions conferred on the Secretary of State by sections 1701-1703 of the National Defense Authorization Act for Fiscal Year 1991 (NDAA) (Pub. L. 101-510; 50 U.S.C. App. 2402 note, 2405, 2410(b); 22 U.S.C. 2797-2797c), and all functions conferred on the President by sections 1701-1703 of the NDAA; sections 303, 324, and 401-405 of the Foreign Relations Authorization Act, Fiscal Years 1992 and 1993 (Pub. L. 102-138); sections 305, 306, 308, and all of section 307 with the exception of subsection 307(b)(2)(F)(ii), of the Chemical and Biological Weapons Control and Warfare Elimination Act of 1991 (Pub. L. 102-182; 50 U.S.C. App. 2410c; 22 U.S.C. 2798, 5604-5606); sections 241 and 1097 of the National Defense Authorization Act of 1992 and 1993 (Pub. L. 102-190); and section 1364 of the National Defense Authorization Act for Fiscal Year 1993 (Pub. L. 102-484).

(8) The functions specified in sections 504 and 508(b) of the FREEDOM Support Act (22 U.S.C. 5801 et seq.).

(9) The function specified in section 5 of the United Nations Participation Act of 1945, as amended (22 U.S.C. 287c), relating to the implementation of United Nations arms embargoes, to the extent that such functions were delegated to the Secretary of State pursuant to Executive Order 12918 of May 26, 1994 (59 FR 28205).

(10) The functions specified in the Iran-Iraq Arms Non-Proliferation Act of 1992 (Pub. L. 102-484), to the extent that such functions were delegated to the Secretary of State pursuant to the Presidential Memorandum Delegation of Authority dated September 27, 1994.

(11) The functions conferred on the Secretary of State in Executive Order 12938 of November 14, 1994 (59 FR 59099).

(12) The functions conferred on the Secretary by the Chemical Weapons Convention Implementation Act of 1998 (as contained in Pub. L. 105-277).

(13) The functions that were vested in the United States Arms Control and Disarmament Agency before the effective date described in section 1201 of the Foreign Affairs Reform and Restructuring Act of 1998 (as contained in Pub. L. 105-277), including any functions conferred on the Director or any officer or employee of that agency, and that are now conferred on the Secretary pursuant to the provisions of the Act (including amendments made by that Act).

(b) To the Under Secretary for Management:

(1) The function of consultation with the Administrator of USAID under the Order with respect to maximum compatibility in the administration of the Foreign Service personnel system; and

(2) The function conferred on the Secretary of State by section 514 of the Mutual Security Act of 1954 (22 U.S.C. 1766).

(c) To the Under Secretary for Economic, Business and Agricultural Affairs:

The functions conferred upon the Secretary of State by section 574 of the Foreign Operations, Export Financing, and Related Programs Appropriations Act, 1996 (Pub. L. 104-107).

(d) To the Assistant Secretary for Economic and Business Affairs:

(1) The functions conferred upon the Secretary of State by sections 5(k) and 6(k) of the Export Administration Act of 1979 (50 U.S.C. App. 2404(k), 2405(k)) and the functions under sections 5(f)(4), 5(i), and 6(g) of such Act conferred upon the Secretary of State by section 1-102(b) of Executive Order 12214 of May 2, 1980 (45 FR 29783), relating to negotiations with other countries, subject to the concurrences required by the Department of State Circular 175 Procedure;

(2) Those functions conferred upon the President by section 601(b)(6) of the Act; and

(3) The function conferred upon the Secretary of State by section 3(b) of Executive Order 10900 of January 5, 1961 (26 FR 143) of ensuring that all functions exercised under the Agricultural Trade Development and Assistance Act of 1954 (7 U.S.C. 1701 et seq.) are consistent with the foreign policy of the United States.

(e) To the Assistant Secretaries:

(1) Principal responsibility consistent with section 1-604 of the Order for concurrence of the Department of State, with the approval of the Legal Adviser and in accordance with the Circular 175 Procedure, in the negotiation, conclusion, and termination of international agreements relevant to their respective areas of responsibility by USAID pursuant to international agreement authorities conferred upon by USAID by statute, Executive Order, delegation of authority, or otherwise;

(2) The functions which may be necessary and appropriate to implement the programs and activities for which they are responsible.

(f) To the Legal Adviser:

(1) The functions conferred upon the President by sections 601(b)(3), 601(b)(4), and 620(e)(2) of the Act.

(2) Responsibility for ensuring compliance with the Case Act (1 U.S.C. 112b) and applicable regulations and procedures, including the Circular 175 Procedure, with respect to international agreements.

(g) To the Assistant Secretary for International Narcotics and Law Enforcement Affairs:

(1) The functions of negotiating, concluding, and terminating international agreements relating to international narcotics control and anticrime programs subject to the concurrences required by the Circular 175 Procedure; and

(2) The functions conferred upon the President by section 487 of the Act, together with all those authorities contained in the Act to the extent necessary or appropriate to accomplish the purpose of the Act.

(h) To the Assistant Secretary for International Organization Affairs:

The functions conferred upon the President by chapter 3 of part 1 of the Act. The functions under sections 301(d) and (e) shall be exercised in consultation with the Administrator of USAID insofar as they relate to international organizations and programs whose purpose is primarily developmental.

(i) To the Coordinator for Counterterrorism:

The functions conferred upon the President by chapter 8 of part II of the Act.

(j) To the Assistant Secretaries for International Organization Affairs, International Narcotics and Law Enforcement Affairs, the Coordinator for Counterterrorism, and the Assistant Secretary for Western Hemisphere Affairs with regard to the functions delegated to them herein:

The functions conferred upon the President by section 4 of Executive Order 11223 of May 12, 1965 (30 FR 6635).

(k) To the Coordinator for East European Assistance and the Special Advisor to the President and the Secretary of State on Assistance to the New Independent States:

(1) The functions conferred upon the President by section 577 of the Foreign Operations Act, Fiscal Year 1999 (as included in Pub. L. 105-277) and section 201 of the Support for East European Democracy (SEED) Act of 1989, insofar as such functions relate to programs within their respective areas of responsibility; and

(2) The functions that may be necessary and appropriate to implement programs and activities for which they are responsible.

(l) To the Global AIDS Coordinator:

(1) The functions conferred upon the President by sections 202(c), 305, and 313 of the United States Leadership Against HIV/AIDS, Tuberculosis, and Malaria Act of 2003 (Pub. L. 108-25), and by section 104A(e) of the Act of 1961, to provide the specified reports to the Congress;

(2) The functions conferred upon the President by section 101 of Public Law 108-25 to establish a comprehensive, integrated, 5-year strategy to combat global HIV/AIDS and to submit to the appropriate congressional committees a report setting forth the strategy; and

(3) The functions conferred upon the Secretary by section 525 of Public Law 108-447 regarding the certification of specified benchmarks for the Global Fund to Fight AIDS, Tuberculosis and Malaria (the Global Fund).

Section 3. Functions Delegated to the Administrator of the United States Agency for International Development

(a) Exclusive of the functions otherwise delegated by or reserved to the Secretary of State herein, there are hereby delegated to the Administrator of the United States Agency for International Development (the Administrator):

(1) The functions conferred upon the President by part I of the Act (including chapter 4 of part II thereof);

(2) The functions conferred upon the President by section 653 of the Act insofar as such functions relate to chapters 1, 10, and 11 of part I of the Act and funds appropriated under the heading “Assistance for Eastern Europe and the Baltic States”;

(3)(A) the functions conferred upon the President by—

(i) Sections 301(a) and 307 of the FREEDOM Support Act (22 U.S.C. 5801), except insofar as provided otherwise in section 2(b) of Executive Order 12884 of December 1, 1993 (58 FR 64099);

(ii) Sections 498 and 498C(b)(2) of the Act;

(iii) Paragraph (3) of section 498A(c) of the Act and the requirement to make reports under that section regarding determinations under that paragraph;

(iv) Subsection (d) under the heading “Assistance for the New Independent States of the Former Soviet Union” contained in title II of Public Law 102-391; and

(v) Section 592 of Public Law 102-391, except to the extent otherwise provided in section 5(b) of Executive Order 12884.

(B) Such functions shall be exercised subject to the authority of the Coordinator under section 102(a) of the FREEDOM Support Act or otherwise;

(4) The function conferred upon the President by the third proviso under the heading “Development Assistance” contained in title II of the Foreign Operations, Export Financing, and Related Programs Appropriations Act, Fiscal Year 1999 (as contained in Pub. L. 105-277), insofar as such functions relate to part I (including chapter 4 of part II) of the Act, excluding section 129 thereof relating to technical assistance to foreign governments and chapter 3 thereof;

(5) The functions conferred upon the President by section 518 of the Foreign Operations, Export Financing, and Related Programs Appropriations Act, Fiscal Year 1999 (as contained in Pub. L. 105-277), insofar as such functions relate to part I (including chapter 4 of part II) of the Act, excluding section 129 thereof relating to technical assistance to foreign governments and chapter 3 thereof;

(6) The functions conferred upon the President by section 577 of the Foreign Operations, Export Financing, and Related Programs Appropriations Act, Fiscal Year 1999 (as contained in Pub. L. 105-277), insofar as such functions relate to chapters 1 and 10 of part I, and chapter 4 of part II, of the Act;

(7) The functions conferred upon the President by section 591 of the Foreign Operations, Export Financing, and Related Programs Appropriations Act, Fiscal Year 1998 (as contained in Pub. L. 105-118), and the provisions of the law referenced therein;

(8) The functions conferred upon the President by section 572 of the Foreign Operations, Export Financing, and Related Programs Appropriations Act, Fiscal Year 1989 (as contained in Pub. L. 100-461), which shall be exercised in consultation with the Secretary of State and the Director of the Office of Management and Budget;

(9) Those functions conferred upon the Secretary of State by sections 4 and 7 of Executive Order 11269 of February 14, 1966 (31 FR 2813), relating to the National Advisory Council on International Monetary and Financial Policies; and

(10) The functions of negotiating, concluding, and terminating international agreements under part I of the Act (including chapter 4 of part II thereof), with respect to programs administered by USAID.

(b) The delegated functions under sections 491(b) and 491(c) of the Act shall be exercised in consultation with the Director of Foreign Assistance.

(c) The delegated functions under sections 627, 628, 630(3), and 666 of the Act shall be exercised in consultation with the Under Secretary for Management.

(d) The delegated functions under section 534 of the Act (with the exception of those contained in subsection (b)(3)) shall be exercised in cooperation with the appropriate Assistant Secretaries of State.

Section 4. Functions Delegated to Other Agencies

To the heads of other agencies implementing functions under the Act, those functions contained in the Act that may be necessary or appropriate to carry out such functions.

Section 5. Functions Reserved to the Secretary of State

There are hereby reserved to the Secretary of State:

(a) The functions conferred upon the President by sections 239(f), 451, 462, 502B, 505(b), 533(b), 614(b), 620(c), 620(e)(1), 620(f), 620(g), 620(q), and 620C(c) of the Act.

(b) In keeping with USAID's status as a distinct agency and recognizing that the Administrator is under the Secretary's direct authority and foreign policy guidance, the Secretary shall review USAID's strategic plan and annual performance plan, annual budget submission and appeals, allocations and significant (in terms of policy or money) reprogrammings of development and other economic assistance.

Section 6. Allocation of Funds

There are hereby allocated to the Administrator those funds allocated to the Secretary of State by section 1-800(a) of the Order that are appropriated for the purposes of part I of the Act, except for chapters 3 and 8, and chapter 4 of part II. There are allocated to the Director of Foreign Assistance those funds allocated to the Secretary of State by section 1-800(a) of the Order that are appropriated for purposes of chapters 3 and 8 of part I of the Act and all of part II of the Act, except for chapter 4.

Section 7. General Provisions

(a) Department of State Delegation of Authority No. 145 of February 4, 1980, as amended, is revoked.

(b) As used in this delegation of authority, the word “function” includes any duty, obligation, power, authority, responsibility, right, privilege, discretion or activity.

(c) Any reference in this delegation of authority to any act, order, determination, delegation of authority, regulation, or procedure shall be deemed to be a reference to such act, order, determination, delegation of authority, regulation or procedure as amended from time to time.

(d) Any officer to whom functions are delegated by this delegation of authority may, to the extent consistent with law:

(1) Redelegate such functions and authorize their successive redelegation,

(2) Promulgate such rules and regulations as may be necessary to carry out such functions, and

(3) Exercise the functions that may be necessary or appropriate to carry out the programs and activities for which authority is delegated to them under this Delegation.

(e) Any officer performing functions under the Act may perform the functions conferred upon the President by section 634B of the Act insofar as they relate to the performance of those functions.

(f) Except to the extent inconsistent with this delegation of authority, all delegations of authority, determinations, authorizations, regulations, rulings, certificates, orders, contracts, agreements, and other actions made, issued or entered into with respect to any function affected by this delegation of authority and not revoked, superseded, or otherwise made inapplicable before the effective date of this delegation of authority, shall continue in full force and effect until modified, amended or terminated by appropriate authority; and

(g) Nothing in this delegation shall be interpreted in a manner inconsistent with the Chief Financial Officers Act.

(h) Any reference in this delegation of authority to any act, order, determination, delegation of authority, regulation, or procedure shall be deemed to apply to any provision of law that is the same or substantially the same as such act, order, determination, delegation of authority, regulation, or procedure.

(i) Notwithstanding any provision of this delegation of authority, the Secretary of State or the Deputy Secretary of State may at any time exercise any function delegated or reserved by this delegation of authority.

Dated: June 2, 2006.
Condoleezza Rice,
Secretary of State, Department of State.

[FR Doc. E6-10451 Filed 7-3-06; 8:45 am]

BILLING CODE 4710-08-P